DEPARTMENT OF COMMERCE

National Oceanic and Atmospheric Administration

RIN 0648-XA909

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The meeting will be held on Wednesday, January 18, 2012 at 9 a.m.

ADDRESSES: The meeting will be held at the Marriott Sable Oaks Hotel, 200 Sable Oaks Drive, South Portland, ME 04106; telephone: (207) 871-8000; fax: (207) 871-7971.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Groundfish Oversight Committee will meet to discuss several issues related to the Northeast Multispecies Fishery Management Plan. The Committee will receive an overview of the preliminary assessments results for Gulf of Maine cod. The Committee will discuss these results and may develop a recommendation to the Council on how to incorporate the results into management. They will also begin work on two management actions that will be developed over the next year. First, the Committee will begin to address possible changes to the groundfish closed areas that will be incorporated into an omnibus habitat amendment. Second, the Committee will begin work on a framework adjustment to modify sector management provisions to improve sector operations. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: December 22, 2011.
Tracey L. Thompson,
Acting Director, Office of Sustainable Fisheries, National Marine Fisheries Service.

[FR Doc. 2011-33272 Filed 12-27-11; 8:45 am]

BILLING CODE 3510-22-P